SMALL BUSINESS ADMINISTRATION

[License No. 04/04-0345]

Plexus Fund V-A, L.P.; Conflicts of Interest Exemption

Notice is hereby given that Plexus Fund V-A, L.P., 4242 Six Forks Road, Suite 950, Raleigh, NC 27609, a Federal Licensee under the Small Business Investment Act of 1958, as amended (“the Act”), in connection with the financing of a small business concern, has sought an exemption under section 312 of the Act and 13 CFR 107.730—Financings which constitute conflicts of interest of the Small Business Administration (“SBA”) regulations. Plexus Fund V-C, L.P. is seeking a written exemption from SBA for a proposed financing to Medicus IT Holdings, LLC, 100 North Point Center East, Suite 150, Alpharetta, GA 30022.

The financing is brought within the purview of 13 CFR 107.730(a) of the regulations because Medicus IT Holdings, LLC is an Associate of Plexus Fund V-A, L.P. because Associates Plexus Fund III, L.P., Plexus Fund QP III, L.P., Plexus Fund IV-A, L.P., Plexus Fund IV-B, L.P., and Plexus Fund IV-C, L.P. own a greater than ten percent interest in Medicus IT Holdings, LLC, therefore this transaction is considered Financing which constitute conflicts of interest requiring SBA's prior written exemption.

Notice is hereby given that any interested person may submit written comments on this transaction within fifteen days of the date of this publication to the Associate Administrator, Office of Investment and Innovation, U.S. Small Business Administration, 409 Third Street SW, Washington, DC 20416.

Bailey DeVries,
Associate Administrator, Office of Investment and Innovation, United States Small Business Administration.

[FR Doc. 2022-24150 Filed 11-4-22; 8:45 am]

BILLING CODE P